FEDERAL COMMUNICATIONS COMMISSION

47 CFR Part 54

[WC Docket Nos. 11-42, 09-197 and 10-90; FCC 16-38]

Lifeline and Link Up Reform and Modernization, Telecommunications Carriers Eligible for Universal Service Support, Connect America Fund

AGENCY: Federal Communications Commission.

ACTION: Final rule; announcement of effective date.

SUMMARY: In this document, the Federal Communications Commission (Commission) announces that the Office of Management and Budget (OMB) has approved, for a period of three years, the information collection requirements associated with certain of the provision of the rules adopted as part of the Commission's Third Further Notice of Proposed Rulemaking, Order on Reconsideration, and Further Report and Order, (Lifeline Third Reform Order). This notice is consistent with the Lifeline Third Reform Order, which stated that the Commission would publish a document in the Federal Register announcing OMB approval and the effective date of those rules.

DATES: The rule amendments to 47 CFR 54.202(a)(6), (d), and (e), and 54.205(c) published at 81 FR 33025, May 24, 2016, will become effective October 3, 2016. The rule amendments to 47 CFR 54.101, 54.401(a)(2), (b), (c), (f), 54.403(a), 54.405(e)(1), (e)(3) through (e)(5), 54.407(a), (c)(2), (d), 54.408, 54.409(a)(2), 54.410(b) through (e), (g) through (h), 54.411, 54.416(a)(3), 54.420(b), and 54.422(b)(3) will become effective December 2, 2016 . The rule amendments to 47 CFR 54.410(f) will become effective January 1, 2017.

The rule amendments to 47 CFR 54.400(l) are applicable October 3, 2016. The rule amendments to 47 CFR 54.400(f), (j), and (m) through (o) are applicable December 2, 2016.

FOR FURTHER INFORMATION CONTACT: Christian Hoefly, Wireline Competition Bureau, Telecommunications Access Policy Division at (202) 418-3607 or at christian.hoefly@fcc.gov.

SUPPLEMENTARY INFORMATION: This document announces that, on September 20, 2016, OMB approved, for a period of three years, the information collection requirements contained in the Commission's Order, FCC 16-38, published at 81 FR 33025, May 24, 2016. The OMB Control Number is 3060-0819. The Commission publishes this notice as an announcement of the effective date rules requiring OMB approval. If you have any comments on the burden estimates listed below, or how the Commission can improve the collections and reduce any burdens caused thereby, please contact Nicole Ongele, Federal Communications Commission, Room 1-A620, 445 12th Street SW., Washington, DC 20554. Please include the OMB Control Number, 3060-0819, in your correspondence. The Commission will also accept your comments via email at PRA@fcc.gov.

To request material in accessible formation for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on September 20, 2016, for the information collection requirements contained in the Commission's rules in 47 CFR part 54.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0819.

The foregoing notice is required by the Paperwork Reduction Act of 1995, Public Law 104-13, October 1, 1995, and 44 U.S.C. 3507.

The total annual reporting burdens and costs for the respondents are as follows:

OMB Control Number: 3060-0819.

OMB Approval Date: 9/20/2016.

OMB Expiration Date: 9/30/2019.

Title: Lifeline and Link Up Reform and Modernization, Telecommunications Carriers Eligible for Universal Service Support, Connect America Fund.

Form Number: FCC Forms 497, 481 & 555.

Type of Review: Revision of a currently approved collection.

Respondents: Individuals or households and business or other for-profit.

Number of Respondents and Responses: 21,162,260 respondents; 23,956,240 responses.

Estimated Time per Response: 0.0167 hours-250 hours.

Frequency of Response: Annual and on occasion reporting requirements and third party disclosure requirement.

Obligation To Respond: Required to obtain or retain benefits. Statutory authority is contained in Section 1 through 4, 201 through 205, 254, 303(r) and 403 of the Communications Act of 1934, as amended, 47 U.S.C. 151 through 154, 201 through 205, 254, 303(r) and 403, and section 706 of the Telecommunications Act of 1996, 47 U.S.C. 1302.

Total Annual Burden: 13,484,412 hours.

Total Annual Cost: $937,500.

Privacy Act Impact Assessment: Yes. The Commission completed a Privacy Impact Assessment (PIA) for some of the information collection requirements contain in this collection. The PIA was published in the Federal Register at 78 FR 73535 on December 6, 2013. The PIA may be reviewed at: http://www.fcc.gov/omd/privacyact/Privacy_Impact_Assessment.html.

Nature and Extent of Confidentiality: Some of the requirements contained in this information collection does affect individuals or households, and thus, there are impacts under the Privacy Act. The FCC's system of records notice (SORN), FCC/WCB-1, “Lifeline Program.” The Commission will use the information contained in FCC/WCB-1 to cover the personally identifiable information (PII) that is required as part of the Lifeline Program (“Lifeline”). As required by the Privacy Act of 1974, as amended, 5 U.S.C. 552a, the Commission also published a SORN, FCC/WCB-1 “Lifeline Program” in the Federal Register on December 6, 2013 (78 FR 73535).

Also, respondents may request materials or information submitted to the Commission or to the Universal Service Administrative Company (USAC or Administrator) be withheld from public inspection under 47 CFR 0.459 of the FCC's rules. We note that USAC must preserve the confidentiality of all data obtained from respondents; must not use the data except for purposes of administering the universal service programs; and must not disclose data in company-specific form unless directed to do so by the Commission.

Needs and Uses: On April 27, 2016, the Commission released the Lifeline Third Reform Order modernizing its low-income universal service support mechanisms. This revised information collection addresses requirements to carry out the programs to which the Commission committed itself in the Lifeline Third Reform Order. Under this information collection, the Commission seeks to revise the information collection to comply with the Commission's new rules, adopted in the Lifeline Third Reform Order, regarding phasing out support for mobile voice over the next six years, requiring Eligible Telecommunications Carriers (ETCs) to certify compliance with the new minimum service requirements, creating a new ETC designation for Lifeline Broadband Providers (LBPs), updating the obligations to advertise Lifeline offerings, modifying the non-usage de-enrollment requirements within the program, moving to rolling annual subscriber recertification, and streamlining the first-year ETC audit requirements. Also, the Commission seeks to update the number of respondents for all the existing information collection requirements, thus increasing the total burden hours for some requirements and decreasing the total burden hours for other requirements. Finally, the Commission seeks to revise the FCC Forms 555, 497, and 481 to incorporate the new Commission rules and modify the filings for FCC Forms 555 and 497 to include detailed field descriptions.

Federal Communications Commission.
Marlene H. Dortch,
Secretary, Office of Secretary.

[FR Doc. 2016-23450 Filed 9-30-16; 8:45 am]

BILLING CODE 6712-01-P